SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov

(SSA), Social Security Administration, DCBFM, Attn: Reports Clearance Officer, 1333 Annex Building, 6401 Security Blvd., Baltimore, MD 21235, Fax: 410-965-6400, E-mail address: OPLM.RCO@ssa.gov

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Authorization for SSA to Disclose Tax Information for Your Appeal of Your Medicare Part B Income-Related Monthly Adjustment Premium Amount—20 CFR 418.1350—NEW. Medicare Part B beneficiaries who wish to appeal SSA's reconsideration of their Income-Related Monthly Adjustment Amount (IRMAA) must ensure that the relevant Internal Revenue Service (IRS) income tax data is made available to the Health and Human Services Administrative Law Judge (ALJ) who will consider their appeal. Currently, SSA is using IRS Form-8821 to obtain beneficiary authorization to disclose the IRS beneficiary tax data to the ALJ. With IRS's permission, SSA has developed its own form for this purpose, the SSA-54. The respondents are Medicare Part B recipients who want to appeal SSA's reconsideration of their IRMAA amount.

Type of Request: New information collection.

Number of Respondents: 6,000.

Frequency of Response: 1.

Average Burden per Response: 15 minutes.

Estimated Annual Burden: 1,500 hours.

2. Request for Corrections of Earnings Record—20 CFR 404.820 & 20 CFR 422.125—0960-0029. The information collected by Form SSA-7008 is needed when an individual alleges his/her earnings record is inaccurate. The information is used to check against the record maintained by SSA and, as necessary, initiate development to resolve the issue. The respondents are individuals who request correction of earnings posted to their Social Security earnings record.

Type of Request: Extension of an OMB-approved information collection.

Number of Respondents: 375,000.

Estimated Annual Burden: 62,500 hours.

| Number of respondents | Frequency of response | Estimated burden per response (minutes) | Estimated annual burden (hours)
Paper Version | 37,500 | 1 | 10 | 6,250.
In-person or telephone interview | 337,500 | 1 | 10 | 56,250.
Total | 375,000 |  |  | 62,500.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Electronic Records Express Third-Party Registration Form—0960-NEW. ERE (Electronic Records Express) is an online system which enables medical providers and various third parties to submit disability claimant information electronically to SSA as part of the disability application process. Third parties who wish to use this system must complete a unique registration process so the Agency can ensure they are authorized to access a claimant's electronic disability folder. This request is for the Third-Party Registration Form. The respondents are third-party representatives of disability applicants or recipients who want to use ERE to electronically access beneficiary folders and submit information to SSA.

Type of Request: New information collection.

Number of Respondents: 75,784.

Frequency of Response: 1.

Average Burden per Response: 3 minutes.

Estimated Annual Burden: 3,789 hours.

2. Representative Payee Evaluation Report—20 CFR 404.2065 & 416.665—0960-0069. Sections 205(j) and 1631(a)(2) of the Social Security Act provide that a representative payee may be appointed to receive benefits on behalf of an individual entitled to Title II and/or Title XVI benefits when that individual is unable to manage or direct the management of those funds him/herself. The representative payee is required to report to SSA at least once per year on how those funds received have been used or conserved. When a representative payee fails to adequately report to SSA as required, SSA will conduct a face-to-face interview with the payee to complete an SSA-624, Representative Payee Evaluation Report, in order to determine the continued suitability of the representative payee to serve as a payee. The respondents are individuals and organizations who act as representative payees for Title II and Title XVI benefits who fail to comply with SSA's statutory annual reporting requirement.

Type of Request: Extension of an OMB-approved information collection.

Number of Respondents: 252,000.

Frequency of Response: 1.

Average Burden per Response: 30 minutes.

Estimated Annual Burden: 126,000 hours.

3. Request for Change in Time/Place of Disability Hearing—20 CFR 404.914(c)(2) and 416.1414(c)(2)—0960-0348. The information on Form SSA-769 is used by SSA and the State Disability Determination Services to provide claimants with a structured format to exercise their right to request a change in time or place of a scheduled disability hearing. The information will be used as a basis for granting or denying requests for changes and for rescheduling disability hearings. Respondents are claimants who wish to request a change in the time and/or place of their hearing.

Type of Request: Extension of an OMB-approved information collection.

Number of Respondents: 7,483.

Frequency of Response: 1.

Average Burden per Response: 8 minutes.

Estimated Annual Burden: 998 hours.

4. Agency/Employer Government Pension Offset Questionnaire—20 CFR 404.408(a)—0960-0470. The information collected by form SSA-4163 will provide SSA with accurate information from the agency paying the pension, for purposes of applying the pension-offset provision. The form will be used only when (1) The claimant does not have the information and (2) the pension-paying agency has not cooperated with the claimant. Respondents are Federal and State Government agencies which have information needed by SSA to determine if the GPO applies and the amount of offset.

Type of Request: Extension of an OMB-approved information collection.

Number of Respondents: 1,000.

Frequency of Response: 1.

Average Burden per Response: 3 minutes.

Estimated Annual Burden: 50 hours.

Dated: July 31, 2007.
Elizabeth A. Davidson,
Reports Clearance Officer, Social Security Administration.

[FR Doc. E7-15153 Filed 8-3-07; 8:45 am]

BILLING CODE 4191-02-P